DEPARTMENT OF HOMELAND SECURITY

Federal Emergency Management Agency

44 CFR Part 67

Final Flood Elevation Determinations

AGENCY: Federal Emergency Management Agency (FEMA), Department of Homeland Security.

ACTION: Final rule.

SUMMARY: Base (1% annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

DATES: Effective Date: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Doug Bellomo, P.E., Hazard Identification Section, Federal Emergency Management Agency, 500 C Street, SW., Washington, DC 20472, (202) 646-2903.

SUPPLEMENTARY INFORMATION: The Federal Emergency Management Agency makes the final determinations listed below for the BFEs and modified BFEs for each community listed. These modified elevations have been published in newspapers of local circulation and ninety (90) days have elapsed since that publication. The Mitigation Division Director has resolved any appeals resulting from this notification.

This final rule is issued in accordance with Section 110 of the Flood Disaster Protection Act of 1973, 42 U.S.C. 4105, and 44 CFR part 67.

The Federal Emergency Management Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR Part 10, Environmental Consideration. No environmental impact assessment has been prepared.

Regulatory Flexibility Act

The Mitigation Division Director certifies that this rule is exempt from the requirements of the Regulatory Flexibility Act because modified base flood elevations are required by the Flood Disaster Protection Act of 1973, 42 U.S.C. 4105, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 13132, Federalism

This rule involves no policies that have federalism implications under Executive Order 13132.

Executive Order 12988, Civil Justice Reform

This rule meets the applicable standards of Executive Order 12988.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location of referenced elevation | *Elevation in feet (NGVD) modified ◆Elevation in feet (NAVD) modified | Communities affected
Little Red River:
Approximately 53.48 miles upstream of the confluence with the White River | ◆248 | FEMA Docket No. P7689, Cleburne County, (Unincorporated Areas).
Approximately 79.10 miles upstream of the confluence with the White River | ◆299 |
Sulphur Creek:
Approximately 120 feet downstream of Libby Road | ◆281 | City of Heber Springs, Cleburne County, (Unincorporated Areas).
Approximately 1,900 feet upstream of Libby Road | ◆289 |
ADDRESSES:
Cleburne County, Arkansas (Unincorporated Areas).
Maps are available for inspection at 301 West Main Street, Heber Springs, Arkansas.
City of Heber Springs, Arkansas.
Maps are available for inspection at 1001 West Main Street, Heber Springs, Arkansas.
Artichoke Creek:
Approximately 2,500 feet downstream of 225th Avenue Northwest | *1,072 | FEMA Docket No. P7669, Swift County, (Unincorporated Areas).
Just upstream of 260th Avenue Northwest | *1,085 |
Chippewa River:
Just downstream of County Road 75 | *1,028 | City of Benson, Swift County, (Unincorporated Areas).
At the confluence of East Branch Chippewa River | *1,036 |
Cottonwood Creek:
Approximately 8,170 feet downstream of County Road 2 | *991 | City of Holloway, Swift County, (Unincorporated Areas).
Approximately 4,600 feet upstream of County Road 9 | *1,020 |
County Ditch No. 2:
At County Route 54 | *1,006 | Swift County, (Unincorporated Areas).
Approximately 1,250 feet upstream of County Route 54 | *1,006 |
East Branch Chippewa River:
At the confluence with the Chippewa River | *1,036 | FEMA Docket No. P7669, City of Benson, Swift County, (Unincorporated Areas).
Just downstream of State Road 29 | *1,036 |
Judicial Ditch No. 19:
Approximately 18,250 feet upstream of the confluence with East Branch Chippewa River | *1,040 | Swift County, (Unincorporated Areas).
Approximately 39,350 feet upstream of the confluence with East Branch Chippewa River | *1,049 |
Lake Malachy Outlet:
Approximately 320 feet above confluence with Lake Malachy | *1,035 | City of Clontarf, Swift County, (Unincorporated Areas).
Approximately 100 feet upstream of Grace Avenue | *1,043 |
Minnesota River:
At Marsh Lake Dam | *948 | Swift County, (Unincorporated Areas).
Approximately 4,750 feet upstream of Marsh Lake Dam | *948 |
Pomme De Terre River:
Approximately 11,700 feet downstream of the Union Pacific Railroad | *975 | City of Appleton, Swift County, (Unincorporated Areas).
Approximately 15,800 feet upstream of North Herrington Road | *1,008 |
ADDRESSES:
City of Appleton, Swift County, Minnesota.
Maps are available for inspection at the City Office, 323 West Schlieman Avenue, Appleton, Minnesota.
City of Benson, Swift County, Minnesota.
Maps are available for inspection at City Hall, 1410 Kansas Avenue, Benson, Minnesota.
City of Clontarf, Swift County, Minnesota.
Maps are available for inspection at City Hall, 221 Clonmel Street, Clontarf, Minnesota.
City of Holloway, Swift County, Minnesota.
Maps are available for inspection at City Hall, 220 DePue Street, Holloway, Minnesota.
Swift County, Minnesota (Unincorporated Areas).
Maps are available for inspection at 301 14th Street North, Benson, Minnesota.
East Branch Knob Creek:
At the confluence with Knob Creek | ◆943 | FEMA Docket No. P7691, City of Pilot Knob, Iron County, (Unincorporated Areas).
Approximately 4,170 feet upstream of Union Pacific Railroad | ◆989 |
Knob Creek:
At the confluence with Stouts Creek | ◆886 | City of Ironton, City of Pilot Knob, Iron County, (Unincorporated Areas).
Approximately 2,410 feet upstream of Mulberry Street | ◆1,012 |
Railroad Creek:
At the confluence with Stouts Creek | ◆895 | FEMA Docket No. P7691, City of Arcadia, Iron County, (Unincorporated Areas).
Approximately 300 feet upstream of State Route 21 | ◆990 |
Shepherd Mountain Lake Creek:
At the confluence with Stouts Creek | ◆950 | Iron County, (Unincorporated Areas).
Approximately 3,380 feet upstream of Guhse Lane | ◆1,051 |
Stouts Creek:
Approximately 4,000 feet upstream of State Route 72 | ◆862 | City of Arcadia, City of Ironton, Iron County, (Unincorporated Areas).
Approximately 5,860 feet upstream of the confluence of Shepherd Mountain Lake Creek | ◆990 |
West Branch Knob Creek:
At the confluence with Knob Creek | ◆933 | Iron County, (Unincorporated Areas).
Approximately 2,140 feet upstream of Spitzmiller Drive | ◆1,020 |
ADDRESSES:
City of Arcadia, Iron County, Missouri.
Maps are available for inspection at 150 West Orchard, Arcadia, Missouri.
Iron County, Missouri (Unincorporated Areas).
Maps are available for inspection at 250 South Main Street, Ironton, Missouri.
City of Ironton, Iron County, Missouri.
Maps are available for inspection at 123 North Main, Ironton, Missouri.
City of Pilot Knob, Iron County, Missouri.
Maps are available for inspection at 112 South McCune Street, Pilot Knob, Missouri.
Duck Creek:
Mouth at Ohio River | ◆616 | FEMA Docket No. P7689, City of Marietta, Washington County, (Unincorporated Areas).
Approximately 4,400 feet upstream of State Highway 26 | ◆616 |
Muskingum River:
Mouth at the Ohio River | ◆615 | City of Marietta, Washington County, (Unincorporated Areas).
Approximately 16,400 feet upstream of mouth | ◆615 |
Ohio River:
Approximately 0.4 mile downstream of U.S. Highway 50 | ◆609 | City of Belpre, City of Marietta, Washington County, (Unincorporated Areas).
Approximately 7.25 miles upstream of Willow Island Lock and Dam | ◆617 |
ADDRESSES:
Washington County, Ohio (Unincorporated Areas).
Maps are available for inspection at the Tax Map Office, 205 Putnam Street, Marietta, Ohio.
City of Belpre, Washington County, Ohio.
Maps are available for inspection at City Hall, 715 Park Drive, Belpre, Ohio.
City of Marietta, Washington County, Ohio.
Maps are available for inspection at City Hall, 301 Putnam Street, Marietta, Ohio.
◆ North American Vertical Datum of 1988.
* National Geodetic Vertical Datum.

(Catalog of Federal Domestic Assistance No. 83.100, “Flood Insurance.”)

Dated: January 9, 2006.
David I. Maurstad,
Acting Director, Mitigation Division, Federal Emergency Management Agency, Department of Homeland Security.

[FR Doc. 06-1824 Filed 2-27-06; 8:45 am]

BILLING CODE 9110-12-P